DEPARTMENT OF HEALTH AND HUMAN SERVICES

Health Resources and Services Administration

Agency Information Collection Activities: Proposed Collection: Public Comment Request Bureau of Health Workforce Program Specific Form; OMB No. 0915-XXXX-New

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than July 25, 2022.

ADDRESSES: Submit your comments to paperwork@hrsa.gov or by mail to the HRSA Information Collection Clearance Officer, Room 14N136B, 5600 Fishers Lane, Rockville, MD 20857.

FOR FURTHER INFORMATION CONTACT: To request more information on the proposed project or to obtain a copy of the data collection plans and draft instruments, email paperwork@hrsa.gov or call Samantha Miller, the acting HRSA Information Collection Clearance Officer at (301) 443-9094.

SUPPLEMENTARY INFORMATION: When submitting comments or requesting information, please include the information collection request title for reference.

Information Collection Request Title: Bureau of Health Workforce (BHW) Program Specific Form OMB No. 0915-XXXX-New

Abstract: HRSA seeks to collect disparity related data on two forms, the Bureau of Health Workforce (BHW) Program Specific Form and the Scholarships for Disadvantaged Students (SDS) Application Program Specific Form. This clearance request is for approval of both forms. The SDS Application Program Specific Form is currently approved under OMB Approval No. 0915-0149 with the expiration date of November 30, 2022. For programmatic efficiency, HRSA is consolidating this previous separate ICR with this new ICR and will be discontinuing OMB No. 0915—0149.

Need and Proposed Use of the Information: Currently, disparity related data is not uniformly collected from applicants across all BHW programs. Historically, only the SDS Program collects disparity related data from applicants. In addition to the SDS data, HRSA seeks to obtain general demographic data for its other health workforce programs to assess the experience and performance of applicants in strengthening the health workforce and the populations in which they serve. Examples of this data include but are not limited to:

• Demographic Information: Students/trainees gender, race, and ethnicity;

• Class Enrollment Information: Student/trainees from disadvantaged backgrounds; and

• Graduate Service Information: Graduates or program completers serving in Medically Underserved Communities, rural communities and in primary care.

Collecting disparity related data from BHW applicants will close an important data gap.

The Public Health Service Act authorizes the Secretary of Health and Human Services (Secretary) to collect data for workforce information and analysis activities for BHW's Title VII and VIII programs in sections 799(c) and 806(b) and (f) (42 U.S.C. 295o-1(c); 42 U.S.C 296e(b) and (f)). The Public Health Service Act section 799(c) specifically authorizes the Secretary to ensure that such data collection takes into account age, sex, race, and ethnicity and sections 806(b) and (f) specifically provides the Secretary with authority to collect information and carry out workforce analytical activities. Collecting these data in the HRSA Electronic Handbook will help grant reviewers, policy makers, and HRSA staff make decisions that promote the health equity mission of the Department.

The SDS Application Program Specific Form seeks to assist HRSA in assessing applicants for the SDS Program, which makes grant awards to eligible schools to provide scholarships to full-time, financially needy students from disadvantaged backgrounds enrolled in health professions programs. To qualify for participation in the SDS program, a school must be carrying out a program for recruiting and retaining students from disadvantaged backgrounds, including students who are members of racial and ethnic minority groups, as required by section 737(d)(1)(B) of the Public Health Service Act (42 U.S.C 293a(d)(1)(B)). To meet this requirement, a school must provide data via the SDS Application Program Specific Form that at least 20 percent of the school's full-time enrolled students and graduates are from a disadvantaged background.

The SDS Application Program Specific form previously approved under OMB Control No. 0915-0149 does not include substantive changes. Both forms will be used to collect 3 years of student and participant data from BHW program applicants only.

Likely Respondents: Respondents vary by the specific program and are determined by each program's eligibility, to include but are not limited to the following: Accredited schools of nursing with advanced education nursing programs; accredited allopathic schools of medicine; accredited schools of osteopathic medicine, dentistry, pharmacy, and graduate programs in behavioral or mental health; schools of nursing; nurse managed health clinics/centers; academic health centers; state or local governments; public or private nonprofit entities determined appropriate by the Secretary; and consortiums and partnerships of eligible entities when applicable.

Burden Statement: Burden in this context means the time expended by persons to generate, maintain, retain, disclose, or provide the information requested. This includes the time needed to review instructions; to develop, acquire, install, and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
BHW Program Specific Form | 2,069 | 1 | 2,069 | 14 | 28,966
SDS Application Program Specific Form | 323 | 1 | 323 | 31 | 10,013
Total | 2,392 |  | 2,392 |  | 38,979

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2022-11230 Filed 5-24-22; 8:45 am]

BILLING CODE 4165-15-P